DEPARTMENT OF THE INTERIOR

Fish and Wildlife Service

Conference of the Parties to the Convention on International Trade in Endangered Species of Wild Fauna and Flora (CITES); Eleventh Regular Meeting; Draft Resolutions, Draft Decisions, Discussion Papers, Other Agenda Items, and Proposals To Amend the CITES Appendices Submitted by the United States for Consideration at the Meeting

AGENCY: Fish and Wildlife Service, Interior.

ACTION: Notice.

SUMMARY: The United States, as a Party to the Convention on International Trade in Endangered Species of Wild Fauna and Flora (CITES), may submit draft resolutions, draft decisions, discussion papers, and other agenda items for consideration at meetings of the Conference of the Parties to CITES. The United States may also propose amendments to the CITES Appendices (species proposals) for consideration at meetings of the Conference of the Parties. The eleventh regular meeting of the Conference of the Parties to CITES (COP11) will be held at the United Nations Environment Programme (UNEP) Headquarters in Gigiri, Kenya, April 10-20, 2000. The deadline for the United States to submit to the CITES Secretariat its draft resolutions, draft decisions, discussion papers, species proposals, and other agenda items for consideration at COP11 was November 12, 1999.

With this notice we announce the draft resolutions, draft decisions, discussion papers, species proposals, and other agenda items submitted by the United States for consideration at COP11.

ADDRESSES: (1) For information pertaining to draft resolutions, draft decisions, discussion papers, and other agenda items: U.S. Fish and Wildlife Service, Office of Management Authority, Branch of CITES Operations, 4401 North Fairfax Drive, Room 700, Arlington, VA 22203; or E-mail: r9oma_cites@fws.gov. (2) For information pertaining to species proposals: U.S. Fish and Wildlife Service, Office of Scientific Authority, 4401 North Fairfax Drive, Room 750, Arlington, VA 22203; or E-mail: r9osa@fws.gov.

FOR FURTHER INFORMATION CONTACT: (1) For information pertaining to draft resolutions, draft decisions, discussion documents, and other agenda items: Teiko Saito, Chief, U.S. Fish and Wildlife Service, Office of Management Authority, tel. 703-358-2095, fax 703-358-2298. (2) For information pertaining to species proposals: Susan Lieberman, Chief, U.S. Fish and Wildlife Service, Office of Scientific Authority, tel. 703-358-1708, fax 703-358-2276.

SUPPLEMENTARY INFORMATION:

Background

The Convention on International Trade in Endangered Species of Wild Fauna and Flora, TIAS 8249, referred to below as CITES or the Convention, is an international treaty designed to control and regulate international trade in certain animal and plant species that are now or potentially may be threatened with extinction. These species are listed in Appendices to CITES, copies of which are available from the Office of Management Authority or the Office of Scientific Authority at the above addresses, from our World Wide Website http://international.fws.gov, or from the official CITES Secretariat Website at http://www.cites.org/CITES/eng/index.shtml. Currently, 148 countries, including the United States, are Parties to CITES. CITES calls for biennial meetings of the Conference of the Parties, which review issues pertaining to CITES implementation, make provisions enabling the CITES Secretariat in Switzerland to carry out its functions, consider amendments to the list of species in Appendices I and II, consider reports presented by the Secretariat, and make recommendations for the improved effectiveness of CITES. Any country that is a Party to CITES may propose amendments to Appendices I and II, resolutions, decisions, discussion papers, and agenda items for consideration by the Conference of the Parties. Only Party countries may submit species proposals, draft resolutions, draft decisions, discussion papers, and agenda items for consideration at the meeting of the Conference of the Parties. Accredited non-governmental organizations may participate in the meeting as approved observers, and may speak during sessions, but may not vote.

This is our fifth in a series of Federal Register notices that, together with announced public meetings, provide you with an opportunity to participate in the development of the United States' negotiating positions for the eleventh regular meeting of the Conference of the Parties to CITES (COP11). We published our first such Federal Register notice on January 30, 1998 (63 FR 4613), and with it we requested information and recommendations on potential species amendments for the United States to consider submitting for discussion at COP11. You may obtain information on that Federal Register notice, and on species amendment proposals, from the Office of Scientific Authority at the above address. We published our second such Federal Register notice on September 4, 1998 (63 FR 47316), and with it we requested information and recommendations on potential resolutions and agenda items for the United States to consider submitting for discussion at COP11. You may obtain information on that Federal Register notice, and on proposed resolutions and agenda items, from the Office of Management Authority at the above address. We published our third such Federal Register notice on February 26, 1999 (64 FR 9523), and with it we announced the time and place of COP11, announced the times and places for the next meetings of the CITES Animals and Plants Committees, and announced a public meeting to discuss issues that were to be raised at those committee meetings. We published our fourth such Federal Register notice on July 8, 1999 (64 FR 36893), and with it we listed potential proposed resolutions, agenda items, and proposed amendments to the CITES Appendices that the United States was considering submitting for consideration at COP11; invited your comments on these potential proposals; announced a public meeting to discuss the potential proposals; and provided information on how non-governmental organizations based in the United States can attend COP11 as observers. You may obtain information on that Federal Register notice from the Office of Management Authority (for information pertaining to proposed resolutions and agenda items) or the Office of Scientific Authority (for information pertaining to proposed amendments to the Appendices) at the above addresses. We also published a correction in the Federal Register on August 13, 1999 (64 FR 44234), correcting a paragraph regarding Atlantic swordfish on page 36909 of our July 8 Federal Register notice (64 FR 36893). You may locate our regulations governing this public process in 50 CFR 23.31-23.39.

Who Submitted Comments on Possible Resolutions, Decisions, Discussion Papers, and Other Agenda Items for the United States To Submit for Consideration at COP11?

We received comments from the following organizations in response to our Federal Register notice of July 8, 1999 (64 FR 36893), on possible resolutions and agenda items for the United States to submit for consideration at COP11: American Tanning & Leather Co.; American Zoological Association; Animal Protection Institute; Animal Welfare Institute; Australasian Regional Association of Zoological Parks & Aquaria, Inc.; Bundesamt für Naturschutz (the German CITES Management Authority); Center for International Environmental Law; Conservation Force; Dallas Zoo; Defenders of Wildlife; Doris Day Animal League; Earthkind/Environmental Investigation Agency/Fauna and Flora International/Greenpeace/IFAW/Marine Conservation Society/RSPCA/The Shark Trust/Whale and Dolphin Conservation Society/Worldwide Fund For Nature-UK (joint comment); Earthtrust; Feld Entertainment, Inc.; Fisheries Agency of Japan (the Japanese CITES Management Authority for introduction from the sea); Fisheries Council of Canada; Fund for Animals, Inc.; Global Guardian Trust; Greenpeace U.S./Antarctic Project (joint comment); Humane Society of the United States; Institute for Conservation Education and Development—Antioch University Southern California; International Association of Fish and Wildlife Agencies; International Coalition of Fisheries Associations; International Fund for Animal Welfare; IWMC World Conservation Trust; Japan Fisheries Association; Louisiana Alligator Farmers & Ranchers Association; Louisiana Department of Wildlife & Fisheries; National Fisheries Institute; Pet Industry Joint Advisory Council; Riches of the Sea; Ringling Bros. and Barnum & Bailey; Safari Club International; Species Survival Network; and World Wildlife Fund. In addition, we received comments from eight individuals in response to our July 8 Federal Register notice on possible resolutions and discussion documents for the United States to submit for consideration at COP11.

We considered all of the comments from each of the above organizations and individuals in deciding which draft resolutions, draft decisions, discussion papers, and other agenda items to submit.

What Draft Resolutions Did the United States Submit for Consideration at COP11?

What follows is a discussion of the single draft resolution submitted by the United States for consideration at COP11. You may obtain copies of this draft resolution, electronically or in paper form, by contacting the Office of Management Authority at the address above. This draft resolution is also available on our Website as well as the CITES Secretariat Website.

Reaffirmation of the Synergy Between CITES and the IWC

We received a recommendation in response to our Federal Register notice of September 4, 1998, that the United States submit a resolution reaffirming the relationship between CITES and the International Whaling Commission (IWC). In our Federal Register notice of July 8, 1999, we stated that the United States intended to inform the Conference of the Parties of an important resolution on this topic, which was overwhelmingly adopted by a vote of 21 votes in favor, 10 votes against, and 3 abstentions at the 51st Meeting of the IWC, in Grenada, May 23-27, 1999. The resolution, IWC/51/43, directs the IWC Secretariat to advise the CITES Conference of the Parties that the IWC has not yet completed a revised management regime that ensures that future commercial whaling catch limits are not exceeded and whale stocks can be adequately protected. The resolution further directs the IWC Secretariat to advise the CITES Conference of the Parties that zero catch limits are still in force for species of whales managed by the IWC. We stated that the United States intended to submit this important IWC resolution to the CITES Secretariat for distribution to the Parties at COP11.

In our July 8 notice, we noted that CITES Resolution Conf. 2.9, entitled “Trade in Certain Species and Stocks of Whales Protected by the International Whaling Commission from Commercial Whaling,” was overwhelmingly reaffirmed by the Parties at the tenth regular meeting of the Conference of the Parties (COP10) in 1997, by the defeat of a draft resolution proposed by Japan to repeal this resolution. At the 50th meeting of the IWC subsequent to COP10, the IWC passed a resolution that expressed its appreciation for the reaffirmation of this link between the IWC and CITES. IWC Resolution IWC/51/43 also welcomes the CITES COP10 decision “to uphold CITES Resolution Conf. 2.9.” As clarification, Resolution Conf. 2.9 calls on the CITES Parties to “agree not to issue any import or export permit, or certificate for introduction from the sea * * * for primarily commercial purposes for any specimen of a species or stock protected from commercial whaling by the International Convention for the Regulation of Whaling.”

The 10 organizations who submitted comments on this issue in response to our July 8 notice held widely different views. Six organizations supported the United States' proposal to submit the IWC resolution and, of those organizations, five elaborated on the need for more cooperation between the two bodies. Four other organizations commented that it would be inappropriate to submit the IWC resolution to the meeting of the COP because they felt that the decisions of the IWC are not justified.

In order to allow for a fuller discussion of this topic, the United States has submitted a draft resolution entitled “Reaffirmation of the Synergy Between CITES and the IWC,” for consideration at COP11. This draft resolution endorses the cooperation between CITES and the IWC on matters of international trade in and management of whales, and urges the Parties to make every effort to ensure that this cooperation continues. The United States included IWC Resolution IWC/51/43 as an annex.

What Draft Decisions Did the United States Submit for Consideration at COP11?

What follows is a discussion of the single draft decision submitted by the United States for consideration at COP11. You may obtain copies of this draft decision, electronically or in paper form, by contacting the Office of Management Authority at the address above. This draft decision is also available on our Website as well as the CITES Secretariat Website.

Movement of Sample Crocodilian Skins

In our Federal Register notice of July 8, 1999, we announced that the United States was considering drafting a resolution to allow for simplified transport of swatches of crocodilian skins for trade fairs and other situations where the samples might be used to solicit orders. The United States considered this action in order to facilitate trade in species that have greatly benefitted from CITES controls. Many crocodilians were once listed in Appendix I of CITES. However, through conservation programs, such as ranching and captive breeding, crocodilians have greatly increased in numbers and represent a CITES success story. Sustainable use of these species can benefit these conservation efforts and provide economic incentives to continue the efforts.

We received seven comments in response to our July 8 notice, six of which supported the idea of facilitated trade opportunities. Three commenters wanted the resolution expanded to cover sample skins and products for use in trade shows. The CITES Management Authority of Germany commented that it was greatly interested in this issue and in seeing what the United States was planning to submit to COP11 with regard to it.

After considering the comments and discussing the issue with the Management Authority of Germany and the IUCN Crocodile Specialist Group, the United States submitted a draft decision for consideration at COP11. The draft decision directs the Secretariat, in consultation with the Animals Committee and the Crocodile Specialist Group, to review ways in which Parties could streamline the procedures for issuing export or re-export documents for crocodilian skins that are tagged in accordance with the CITES universal tagging resolution and that will be used for display at trade shows and returned to the country issuing the export or re-export documents. A draft resolution would then be prepared for consideration at the twelfth meeting of the Conference of the Parties (COP12).

What Discussion Papers Did the United States Submit for Consideration at COP11?

What follows is a description of the three discussion papers submitted by the United States for consideration at COP11. You may obtain copies of these discussion papers, electronically or in paper form, by contacting the Office of Management Authority at the address above. These discussion papers are also available on our Website as well as the CITES Secretariat Website.

1. Recognition of the Important Contribution Made by Observers to the CITES Process at Meetings of the Conference of the Parties

In response to our Federal Register notice of September 4, 1998, one organization requested that we submit a resolution for consideration at COP11 recognizing the important contributions made by observers to the CITES process and affirming that observer participation in meetings of the COP is vital to the ability of the Conference of the Parties to discuss issues with the fullest possible available information. We subsequently announced in our Federal Register notice of July 8, 1999, that the United States was considering submitting a discussion paper on this issue for consideration at COP11. Twelve organizations submitted comments on this issue in response to our July 8 notice: nine of these organizations fully supported the United States submitting a discussion paper; one did not support nor oppose; and two opposed.

Article XI, paragraph 7, of the text of the Convention provides that national non-governmental organizations that have been approved to attend a meeting of the COP as observers shall have the right to participate in the meeting but not to vote. A number of the commenting organizations who attended COP10 as observers expressed their concerns about the limited level of participation afforded observers at that meeting, particularly in Committee I. We are sympathetic to these concerns and believe that the participation of observers in the discussions of issues at meetings of the COP is beneficial. For many of the issues submitted for discussion at meetings of the COP, the greatest level of expertise is within the community of non-governmental organizations that attend as observers. Through their right to actively participate in the sessions of the Plenary, Committee I, Committee II, and Working Groups at past meetings of the COP, observers have contributed vital information to the discussions of COP issues and, therefore, to the advancement of conservation.

Subsequently, the United States submitted a discussion paper on this issue for consideration at COP11. The discussion paper recognizes the important contribution that observers make to the CITES process at meetings of the COP and urges the Parties to ensure the preservation of the right granted to observers by Article XI of the Convention to actively participate in all COP sessions. The paper recommends that, for COP11 and future meetings of the COP: (a) the CITES Secretariat and the host government of the meeting of the COP make every effort to ensure that each approved observer be provided with at least one seat on the floor in the meeting rooms of the Plenary, Committee I, Committee II, and Budget Committee, unless one-third of the Party representatives present and voting object; (b) in selecting venues for future meetings of the COP, the Parties make every effort to ensure that the venues selected have space for observers on the floors of the halls for the Plenary, Committee I, Committee II, and the Budget Committee; (c) the Presiding Officers of the Plenary, Committee I, Committee II, and Budget Committee make every effort to allow observers time in the meeting sessions to speak on issues (make interventions); (d) recognizing that conservation of time in order to complete a COP agenda in the 2-week period is a valid concern, Presiding Officers give observers a speaking time limit if necessary and encourage observers not to be redundant in speaking on a particular issue; (e) when possible, Presiding Officers invite knowledgeable observers to participate in Working Groups of Committee I and Committee II; and (f) the Secretariat make every effort to ensure that informative documents on the conservation and utilization of natural resources, prepared by observers for distribution at the meeting of the COP and approved by the Secretariat, are distributed to the participants in the meeting.

2. Synergy With the United Nations Food and Agriculture Organization (FAO)

In our Federal Register notice of July 8, 1999, we announced that the United States was considering submitting a discussion paper on the promotion of synergy and cooperation between CITES Parties and the United Nations Food and Agriculture Organization (FAO) in the implementation of the FAO plans of action on seabirds, sharks and overcapacity, and the review of CITES listing criteria. The United States submitted a discussion paper on this issue for consideration at COP11. The paper calls upon CITES Parties to expeditiously implement the FAO plans of action and to examine areas of cooperation between CITES and the FAO in this endeavor. It also encourages consultation and cooperation between CITES Animals and Plants Committees and international technical bodies such as the FAO in the review of the CITES listing criteria as called for in CITES Resolution Conf. 9.24.

Nine organizations submitted comments on this issue. Eight organizations supported a discussion paper on cooperation with FAO. One organization noted that the paper may be acceptable, but needed to see its contents. One organization stressed the role CITES has played in focusing international attention on the exploitation of and trade in sharks and noted that, while there is a clear link between CITES and the FAO shark plan, the plans of action to reduce seabird by-catch and national fishing fleet overcapacity are fisheries management issues, rather than wildlife trade issues. The discussion paper submitted by the United States recognizes the important role CITES played in focusing attention on the exploitation and trade in sharks and discusses the contents of the seabird and capacity plans of action as well as the shark plan of action. The paper recommends that CITES recognize the importance of the FAO plans of actions and explore areas of cooperation between CITES and FAO in the implementation of the shark and seabird plans.

One organization suggested that the United States submit a draft resolution recognizing the important but different roles FAO and CITES play, similar to the resolution concerning the relationship between CITES and the International Whaling Commission. The United States does not believe that such a resolution is needed at this time and that a discussion paper recommending continued cooperation between the two bodies is sufficient.

With respect to FAO's role, two organizations stated that they agreed that the review of listing criteria should be a CITES-led process. Three other organizations, while not disagreeing that the review should be CITES-led, noted that FAO can and should provide valuable scientific information and technical expertise to CITES and supports the United States' position to encourage cooperation with FAO in any review of the CITES listing criteria. The discussion paper submitted by the United States recognizes that the review of the CITES listing criteria as called for in Resolution Conf. 9.24 should be a CITES-driven process, with leadership and direction from the Animals and Plants Committees. The paper also recognizes the expertise that FAO has to contribute to the review process and encourages consultation and cooperation between CITES and international technical bodies such as FAO and its Committee on Fisheries.

3. Trade in Seahorses and Other Members of the Family Syngnathidae

In our Federal Register notice of July 8, 1999, we indicated that the United States was considering submitting an Appendix-II listing proposal for seahorses (Hippocampus spp.), based on substantial threats to these species, unregulated international trade, widespread overfishing, and habitat loss and degradation. In addition to requesting public comment through the Federal Register notice, we undertook a comprehensive consultation effort with all range countries for the entire family Syngnathidae (through a Notification to the Parties issued by the CITES Secretariat, followed by a letter sent to principal harvesting, exporting, and consuming countries), as well as all U.S. States and territories that potentially have seahorses or pipefishes in their coastal waters.

We received several comments during the public comment period for our July 8 notice. Comments supporting a listing proposal were received from the Humane Society of the United States, Animal Welfare Institute, International Fund for Animal Welfare, and Ocean Rider, Inc. Comments opposed to a listing proposal were received from the Governments of China and Japan (Fisheries Agency of Japan), the Advisory Committee for the Protection of Rare Animals and Plants of the Hong Kong Special Administration Region, Project Seahorse (represented by Dr. Amanda Vincent), and the Pet Industry Joint Advisory Council. Global Guardian Trust and World Wildlife Fund were undecided; both organizations believed that additional data were necessary to evaluate the distribution and trade status of the species. The Government of Indonesia and the Council of Agriculture, Taiwan, commented but did not advocate a specific position. The Council of Agriculture provided trade data for review. We also consulted coastal States within the United States regarding the trade and biological status of syngnathids in their waters. The State of Florida provided trade data that indicates significant trade in syngnathid species. Several other States responded but provided only limited information. Although seahorses reside in U.S. coastal waters, current stock assessments are extremely limited and are a by-product of assessments of commercially harvested marine species.

After reviewing all of the comments received on this issue, and all available information, we believe that the available data regarding international trade, taxonomic identification, the distribution and abundance, and biological and ecological status of the Family Syngnathidae are inadequate to support submission of an Appendix-II listing at this time. However, we worked closely with the Government of Australia and agreed to promote further discussion and conservation action on this issue by jointly submitting a discussion paper for consideration at COP11. This paper is a review of the current biological status of the family; utilization as traditional medicines, curios, and aquarium organisms; existing fisheries and captive breeding programs; and available trade data. The paper presents information that suggests that syngnathid populations are heavily exploited for the international wildlife trade, and the United States recommends additional taxonomic study, population assessment, research and development in husbandry and sustainable harvest, and compilation of international and domestic trade data, prior to COP12. The discussion paper also incorporates specific recommendations for future action by Party members, the Traditional Medicine community, and the scientific community. We appreciate the close cooperation with Australia on this important conservation issue and look forward to discussing this issue at COP11, adopting the recommendations contained therein, and working for syngnathid conservation in the CITES context.

For What Discussion Papers, Submitted by Other Countries for Consideration at COP11, Did the United States Submit Its Intention To Co-Sponsor?

What follows is a description of a discussion paper, submitted by Germany and co-sponsored by the United States, for consideration at COP11. You may obtain copies of this discussion paper, electronically or in paper form, by contacting the Office of Management Authority at the address above. This discussion paper is also available on our Website as well as the CITES Secretariat Website.

Trade in Freshwater Turtles and Tortoises to and in Southeast Asia

In our Federal Register notice of July 8, 1999, we announced that we were seeking comments on the sale of live freshwater turtles for sale in East Asian food markets because we had received information that a “very large international trade” in many of these species had developed. Based on a review of the comments we received, published and unpublished literature, and consultation with experts, we determined that it would be appropriate to put this issue on the agenda of COP11. Therefore, the United States has co-sponsored a discussion paper entitled “Trade In Freshwater Turtles and Tortoises To and In Southeast Asia” with Germany.

This discussion paper describes the current trade in “millions of freshwater turtles and tortoises * * * consumed as food and medicine in South and East Asia” and makes recommendations to address the situation. In describing this trade, Germany and the United States note that the growing economic affluence in many Asian countries has led to an increased demand in wildlife for human consumption and use, in particular freshwater turtles and tortoises. The markets in which these animals and their parts are sold contain a large number of species not listed in the CITES Appendices (including North American taxa), along with large numbers of specimens from species listed in both Appendix I and II. Of particular concern is the documented sale of significant numbers of six Appendix-I species, as well as the sale of rare Appendix-II species, and some apparently rare species that are not listed in the CITES Appendices. There are concerns that many of the species for sale originate as wild-caught specimens in countries that do not allow their export for commercial purposes, and several taxa for sale have only recently been described in the scientific literature.

The United States is recommending in this discussion paper, with Germany, that the CITES Parties importing and exporting these animals, the Secretariat, and the Animals Committee should all play a role in examining this trade and taking appropriate action to ensure that it is sustainable and not harmful to wild populations of the species involved. Specifically, the paper calls for the Parties to study the trade and their law enforcement protocols, to evaluate the appropriateness of new CITES species listings or uplistings, and promote sustainability in the trade, as well as other essential measures. The paper would direct the Secretariat to convene a technical workshop on the issue, and would direct the Animals Committee to consider and act upon the workshop's recommendations and to also work with the IUCN Freshwater Turtle and Tortoise Specialist Group to update their Action Plan.

What Other Items Did the United States Submit for Inclusion in the Agenda for COP11?

What follows is a discussion of a separate item submitted by the United States for consideration at COP11.

Discussion of Progress in the Conservation of Swietenia macrophylla (Bigleaf mahogany)

Brazil has proposed including bigleaf mahogany (Swietenia macrophylla) as an agenda item for discussion at COP11. The U.S. Government has been in close contact with Brazil on this issue and provisionally proposed the same agenda item, in the event that Brazil's submission was not received by the Secretariat in time. The United States is very supportive of providing the Parties an opportunity to discuss progress in the conservation of Swietenia macrophylla since COP10. Brazil has submitted a document for discussion at COP11, reporting on the results of the Mahogany Working Group meeting that Brazil hosted in June 1998. In relation to this discussion, we will work closely with other Federal agencies and intend to submit an informational document outlining U.S. views on the issue and actions under way to conserve the species.

What Draft Resolutions, Draft Decisions, Discussion Papers, and Other Agenda Items Did the United States Decide Not To Submit for Consideration at COP11?

We discussed the following issues in our Federal Register notice of July 8, 1999, as possible topics for U.S. draft resolutions, draft decisions, discussion papers, or agenda items for consideration of the Parties at COP11, or as possible resolutions or decisions that the United States was either considering supporting or was undecided about. A discussion of the decision not to submit these topics as draft resolutions, draft decisions, discussion papers, or agenda items follows. Several of these topics were submitted for consideration at COP11 as products of CITES Working Groups (e.g., Working Groups of the CITES Standing Committee or Animals Committee) in the form of draft resolutions, draft decisions, or discussion papers, which the United States will be able to support at COP11.

1. Introduction From the Sea

At the 14th Meeting of the CITES Animals Committee, held in June 1997, the Government of Australia presented a document on the Implementation of Articles IV(6) and IV(7) (Introduction From the Sea). An informal working group, led by Australia, was formed to examine this complex matter in more detail. The United States participated in an exchange of letters with Australia that focused on practical solutions to potential problems related to implementation of the provisions of the Convention for CITES-listed species taken in the marine environment outside the jurisdiction of any country. In our Federal Register notice of July 8, 1999, we announced that Australia intended to submit this topic for discussion at COP11 and that the United States would continue to participate in discussions regarding this issue. If acceptable progress was made, the United States expected to support the results of those discussions. If acceptable progress was not made, the United States would consider developing its own proposed resolution on this issue for consideration at COP11.

Three organizations submitted comments expressing widely differing views on this issue. One organization agreed that clarification of the term “introduction from the sea” is needed so the Parties fully understand their obligations under CITES with respect to the issuance of documents and other practical matters. This organization suggested that a document should be prepared for COP11 as a first step in clarifying the interpretation of the term. Another organization commented that the definition of “introduction from the sea” is very clear in the text of the Convention and that the organization would need to hear discussions at the meeting of the COP and see the details of a draft resolution before commenting further. A third organization opposed discussion of this issue at COP11 because the organization believes such discussion would preempt deliberation on listing marine species in the Appendices of CITES.

Based on our review of the issue, discussions with Australia, and consideration of the comments received, the United States believes it is important that the Parties agree to a standard interpretation and implementation of “introduction from the sea.” The adoption of a resolution would not preempt any deliberation on listing marine species, but would establish a common interpretation to assure the Parties that there is a practical system to implement any future listing. Australia submitted, for consideration at COP11, a draft resolution with a detailed discussion of the issues and a table of scenarios and requirements for specimens that are to be introduced from the sea. Thus, as proposed, the United States did not submit a separate draft resolution on the subject. Australia is to be commended for its tremendous effort in analyzing the issue and providing a document for the Parties to consider. We are currently reviewing Australia's draft resolution and will provide a proposed U.S. negotiating position on this document in our Federal Register notice addressing foreign submissions for COP11.

2. Use of Annotations in the Appendices

The issue of the use of annotations in the Appendices is expected to be one of the most important for consideration at COP11. We received comments from several organizations in response to our Federal Register notice of September 4, 1998, recommending that we submit a resolution to clarify the criteria to be used when transferring populations or species from Appendix I to II with a product annotation. Annotations are footnotes in the CITES Appendices that are used by the CITES Parties for a number of purposes. As evidenced in proposals submitted for consideration at COP10 and COP11, they are increasingly used when species or populations of species are transferred or proposed to be transferred from Appendix I to II with an annotation that specifies that certain parts, products, or specimens are allowed to be traded under the provisions of Appendix II, whereas other parts and products are still treated as Appendix-I species. We discussed this issue in our July 8, 1999 Federal Register notice.

The United States has taken an active leadership role on this issue. At COP10, the Parties adopted Decision 10.70, which directed the Standing Committee to clarify legal and implementation issues related to the use of annotations in the Appendices. The United States participated in the Standing Committee Working Group on this issue, along with Switzerland (Chair), Argentina, Canada, Germany, and Namibia. Switzerland has submitted a draft resolution for consideration at COP11 that is a consensus product of this Working Group. Therefore, the United States decided that there was no need to submit a separate resolution.

3. Transborder Movements of Live Animals for Exhibition Purposes

At COP10, the Parties adopted Decision 10.142, which directed the CITES Secretariat to prepare recommendations on simpler procedures for the transborder movements of live-animal exhibitions. In March 1998, the Standing Committee agreed to establish an informal Working Group, consisting of the United States (Chair), Germany, Switzerland, the Russian Federation, and the Secretariat. The United States has a strong interest in making the current exhibition resolution (Conf. 8.16) more workable and, therefore, played an active role in the Working Group. In our Federal Register notice of July 8, 1999, we announced that we would forward to the Working Group suggestions on a passport-type system for the transborder movements of animals and a review of marking requirements. Since we anticipated that the United States would most likely be able to support the Secretariat's recommendations to the Standing Committee, we did not plan to submit a separate draft resolution.

We received comments from five organizations in response to our July 8 notice. All of them would like to see the development of a passport-type system to implement simplified procedures that would alleviate administrative or enforcement burdens while establishing greater safeguards against illegal trade. One organization recommended that the term “exhibition” should be defined; the passport should have a detailed description of the specimen and be surrendered upon expiration; a copy of the passport should be on file with the Secretariat; a renewal of a passport should be subject to a review of irregularities; and exhibitors should provide assurances that any female animal is not pregnant upon export and will not be put in a situation where she will become pregnant while in a foreign country. Another organization commented that poor enforcement of CITES provisions for traveling live-animal exhibitions has been a persistent problem and that employing a marking and passport regime would help improve enforcement. This organization thought current enforcement problems were caused by difficulty in monitoring exhibitions that change names and locations frequently, inspectors who avoid inspecting exhibition animals, and a shortage of facilities to hold confiscated animals. Another organization, however, believes a few incidents of “circuses” that engaged in illegal trade or failed to properly care for their animals have been highly and repetitively publicized, creating a negative perception about circuses in general that is inaccurate and unwarranted. The establishment of a passport system would help ensure the legitimacy of exhibitions. We also received differing views on the inclusion of animals that do not qualify for the exemptions of CITES Article VII, paragraphs 2 and 5, as defined by the current resolutions on pre-Convention (Conf. 5.11) and bred-in-captivity (Conf. 10.16). One organization did not want to provide exhibitions with special exemptions outside of the current resolutions. Two other organizations supported the inclusion of Asian elephants born in captivity outside of the range countries for the species among those animals that could be issued a passport document, by amending Resolution Conf. 10.16 to recognize a special circumstance for Asian elephants.

The United States participated in the Working Group through an exchange of letters and conference calls to explore practical solutions to a number of issues, including the movement of African and Asian elephants that do not qualify under current resolutions as pre-Convention or bred in captivity, respectively. The United States developed a draft resolution based on Resolution Conf. 8.16 on traveling live-animal exhibitions. Comments from Working Group members were incorporated, and a second draft was reviewed. The group was unable to reach consensus on the draft and agreed that Resolution Conf. 8.16 should be revised only if these issues could be resolved. For various reasons, the group could not agree on the pre-Convention and bred-in-captivity issues, concluding that several of the proposed solutions were contrary to the provisions of the CITES. Thus, the group requested advice from the Standing Committee. In October 1999, the Secretariat presented a summary document to the Standing Committee. The Committee agreed that the Working Group need not continue its work, and asked the Secretariat to prepare a document for COP11. This topic is on the agenda for consideration at COP11, but we have not yet received the document to review. We hope to provide a proposed U.S. negotiating position on the document in our Federal Register notice addressing foreign submissions for COP11.

4. Captive Breeding

In our Federal Register notice of July 8, 1999, we notified the public that we would be participating in further discussions on captive breeding, particularly revision of CITES Resolution Conf. 8.15, which established procedures for the registration of operations breeding Appendix-I species in captivity for commercial purposes. The United States commented on several drafts of a revised resolution to replace Resolution Conf. 8.15. The final draft was prepared by the Chair of the CITES Animals Committee and subsequently submitted by the CITES Secretariat for consideration at COP11. In addition, the United States previously submitted comments and suggestions on the development of a list of “species commonly bred in captivity,” as defined in paragraph (b)(ii)(C)(2.a) of Resolution Conf. 10.16. Although there is no formal document or agenda item on this issue, it is interrelated with the revision of Resolution Conf. 8.15 and is likely to be part of those discussions. We intend to outline the U.S. proposed negotiating position on the draft revised resolution on this issue in our Federal Register notice addressing foreign submissions for COP11. The United States intends to remain active in any discussions on how to implement the provisions of the Convention relating to animals bred in captivity.

5. Trade in African Bushmeat

In response to our Federal Register notice of September 4, 1998, two organizations recommended that we submit an agenda item for consideration at COP11 addressing the African bushmeat trade. Both commenters expressed concern about the impact of bushmeat trade on African elephants and primates, particularly the great apes. We subsequently announced in our Federal Register notice of July 8, 1999, that the United States was considering submitting a discussion paper on the commercial international illegal African bushmeat trade and was planning to seek one or more co-sponsors in submitting this paper. Fourteen organizations submitted comments on this issue in response to our July 8 notice: twelve of these organizations supported the United States submitting a discussion paper; one thought that the issue should be handled by improving CITES enforcement; and one opposed submitting a discussion paper.

We recognize that the commercial international illegal African bushmeat trade poses a serious threat to the survival of numerous protected species, including elephants and the great apes. Further, commercial-level bushmeat hunting threatens both CITES and non-CITES species. Because much of the illegal commercial trade does involve CITES-listed species and occurs between CITES member countries, CITES is an appropriate forum for discussing this issue. However, the United States feels that it is important that at least one African range state play an active role in bringing this discussion to the CITES Parties. An African range state country did not submit or co-sponsor a discussion paper on the commercial African bushmeat trade before the submission deadline.

Therefore, the United States did not submit a discussion paper on the commercial international illegal African bushmeat trade. We believe that this is an extremely important issue to CITES and intend to be actively involved in any discussions of this issue at COP11. As the United Kingdom submitted a discussion paper entitled “Bushmeat as a Trade and Wildlife Management Issue,” we are confident that the topic will be discussed at the meeting. We intend to outline our tentative position on the United Kingdom's document in our Federal Register notice addressing foreign submissions for COP11.

6. Definition of the Term “Hunting Trophy”

The Center for International Environmental Law (CIEL) submitted comments that provided a definition of “sport-hunted trophy” and cited concerns on the commercialization of such specimens both in the country of origin and the country of import. CIEL recommended that the United States submit amendments to revise Resolution Conf. 2.11 (Rev.) on “Trade in Hunting Trophies of Species Listed in Appendix I.” CIEL also requested that the United States provide a definition of such hunting trophies in the listing annotations on the Appendix-II African elephant populations and South African white rhino population. Five other organizations provided comments in response to our Federal Register notice of July 8, 1999. CIEL provided draft text for a sport-hunted trophy resolution. The Humane Society of the United States (HSUS) encouraged the United States to submit a resolution for many of the same reasons originally given by CIEL. Conservation Force, the Global Guardian Trust, and the Safari Club International all opposed such a submission indicating that this issue should be up to the discretion of each Party and that Parties were already well aware of what constitutes a sport-hunted trophy.

The United States has decided not to submit a resolution on the definition of a “sport-hunted trophy.” The United States believes that most of the concerns expressed by CIEL and HSUS will be addressed and resolved through the annotations resolution submitted by Switzerland. This resolution is the product of the Standing Committee's Annotations Working Group of which the United States was a member (see No. 2 above). In addition, the Parties have already addressed the problem of internal legal and illegal trade of rhino products and hunting of rhinos through Resolution Conf. 9.14 on “Conservation of Rhinoceros in Asia and Africa.” Also, the Parties are aware that properly monitored legal trade in a species should not lead to an increase in illegal trade as noted in Resolution Conf. 8.3 on “Recognition of the Benefits of Trade in Wildlife.”

In our July 8, 1999, Federal Register notice, we discussed several other possible draft resolutions, draft decisions, or discussion papers as topics that the United States was considering not submitting for consideration at COP11. We have not addressed these issues in the above sections because we did not receive any comments that changed our position on them, and the United States decided not to submit them (for the same reasons provided in our July 8 notice).

Who Submitted Comments on Possible Species Proposals for the United States To Submit for Consideration at COP11?

We received comments from the following companies and organizations in response to our Federal Register notice of July 8, 1999, on possible species amendment proposals for the United States to submit for consideration at COP11: Afrasian Woods/Gross Veneer Sales; African Timber Organization; Aljoma Lumber, Inc.; American Furniture Manufacturers Association; Association Technique Internationale des Bois Tropicaux; American Zoological Association; Animal Welfare Institute; Center for International Environmental Law; Center for Marine Conservation; The Chameleon Information Network; Conservation Force; The Dean Company; Dean Hardwoods, Inc.; Eidai Industries, Inc.; Environmental Investigation Agency; Fauna and Flora International; Fisheries Agency of Japan; Fisheries Council of Canada; Fragrance & Materials Association; Frost Hardwood Lumber Co.; Ghana Timber Millers Organization; Global Guardian Trust; Greenpeace Mexico; Greenpeace U.S.; Grzep, C.G.; Hardwood Plywood & Veneer Association; Humane Society International; Humane Society of the United States; International Association of Fish and Wildlife Agencies; International Fund for Animal Welfare; International Society of Tropical Foresters; International Specialities, Inc.; International Wood Products Association; IUCN Central Asia Sustainable Use Specialist Group; Japan Fisheries Association; Malaysian Timber Council; Marwood, Inc.; National Fisheries Institute; National Hardwood Lumber Association; Newman Lumber Co.; Ocean Rider, Inc.; Pet Industry Joint Advisory Council; Plywood Tropics USA, Inc.; Project Seahorse (Dr. Amanda Vincent); Safari Club International; Select Interior Door, Ltd.; Shark Research Institute; States Industries, Inc.; Steinway & Sons; T. Baird McIlvain International Co.; Thompson Mahogany Company; Wood Moulding & Millwork Producers Association; World Timber Corporation; and World Wildlife Fund.

We received one comment directly from the State of Arizona (Game and Fish Department). We also received comments from four members of Congress and five individuals. Finally, we received comments from the following range country governments, either in response to the July 8 notice or as a result of direct consultations we pursued with range country governments independently of this public involvement process: Australia, Bangladesh, Belize, Bolivia, Brazil, Brunei Darussalem, Canada, China, Costa Rica, Cuba, Dominican Republic, Ecuador, El Salvador, Georgia, Guinea, Honduras, India, Indonesia, Iran, Japan, Kazakhstan, Kenya, Madagascar, Malaysia, Mexico, Mongolia, Nepal, the Netherlands, Pakistan, Philippines, Russian Federation (provided by Germany), Senegal, Singapore, Sri Lanka, Tajikistan, Tanzania (provided by Kenya), Turkey, and Turkmenistan. Additional comments were received from Hong Kong and Taiwan. The United States considered all comments in making its decisions on which species proposals to submit for consideration at COP11.

What Species Proposals Did the United States Submit for Consideration at COP11?

The United States submitted the following proposals to amend the CITES Appendices, for consideration at COP11. All of these proposals were discussed in our Federal Register notice of July 8, 1999, as proposals the United States was considering, or was undecided on. You may obtain copies of these proposals, electronically or in paper form, by contacting the Office of Scientific Authority at the address above. These proposals are also available on our Website as well as the CITES Secretariat Website.

The United States submitted the following proposals for species native to the United States or found in U.S. waters:

1. Guaiacum sanctum (Holywood lignum-vitae): Transfer From Appendix II to I

Holywood lignum-vitae, a valuable timber species widely distributed in the Florida Keys, West Indies, and Central America, has been listed in Appendix II since 1975. This species has been depleted through deforestation and felling for timber, such that it has now been extirpated or is extremely rare on most of the Caribbean islands. Remaining populations in Central America and Florida are confined to restricted areas and are still threatened by habitat loss and over-exploitation. We consulted the U.S. Department of Agriculture's Forest Service and all range country governments regarding this proposal. El Salvador expressed support for the proposal. Belize, Costa Rica, and Mexico provided information, but stated no position. Cuba and the Dominican Republic opposed the proposal. Three comments were received from the public during the Federal Register comment period. The International Association of Fish and Wildlife Agencies and World Wildlife Fund supported the proposed uplisting, while Global Guardian Trust felt that more information was needed. Our scientific assessment is that the species qualifies for transfer from Appendix II to Appendix I, and, accordingly, the United States submitted a proposal to transfer this species to Appendix I.

2. Kalmia cuneata (White wicky): Remove From Appendix II

White wicky, an endemic plant of the North and South Carolina coastal plain, has been listed in CITES Appendix II since 1983. White wicky has not been in international trade in recent years. The main threats to the species are habitat loss due to land development, conversion to agriculture or production forestry, and fire suppression. We consulted with the States of North Carolina and South Carolina regarding this proposal. Neither expressed any objections. We received two comments—from Global Guardian Trust and International Association of Fish and Wildlife Agencies—in support of this proposal. Because international trade does not pose a threat to this species, the United States submitted a proposal to delete the species from Appendix II.

3. Falco rusticolus (Gyrfalcon): Transfer North American Population From Appendix I to II With an Annotation

The gyrfalcon was listed in Appendix I in 1975. The North American gyrfalcon population was transferred to Appendix II in 1981 (COP3), but was returned to Appendix I in 1985 (COP5) because of concern over illegal trade. At present, the North American gyrfalcon population, consisting of over 5,000 individuals, occurs over a large area of wilderness habitat and has not been subjected to an observed, inferred, or projected decline in numbers or in the area and quality of its habitat for over 20 years. Evidence indicates that this population has not declined due to legal or illegal international trade since at least 1981. We consulted the Government of Canada regarding this proposal. Canadian authorities expressed support for the proposal and provided specific supporting language, which was included in the proposal itself. We received three comments from the public during the Federal Register comment period. Two letters supported the transfer and one opposed it on the grounds that no species should be split-listed.

The U.S. position is that any potential negative effects of a split listing between these birds and Eurasian birds (e.g., increased potential for illegal trade, similarity of appearance) could be addressed by an annotation specifying a zero export quota for wild-caught birds, which we have proposed. Any change in this annotation would require prior approval of the Conference of the Parties, through submission of a proposal to a future meeting of the Conference of the Parties. Although the Migratory Bird Treaty Act and several State jurisdictions allow the limited capture of wild birds for private use and CITES would have allowed the exportation of these birds for personal use, all of the birds exported from Canada and the United States since 1984 have been captive-bred birds. In addition, a zero quota for wild birds would still allow limited trade in wild birds for scientific or conservation breeding purposes, in accordance with the requirements for Appendix I. Therefore, since the transfer of the species from Appendix I to Appendix II, with a zero export quota for wild birds, should have no significant impact on the species, the United States submitted such a proposal.

4. Clemmys guttata (Spotted turtle): Include in Appendix II

The spotted turtle occurs in southern Ontario, Canada, and in northeastern, upper midwestern, mid-Atlantic, and southeastern States in the United States. The primary threats to the spotted turtle are habitat fragmentation, alteration, and destruction; over-collection; and road mortality. The species is listed as endangered, threatened, or a species of special concern at the State or Provincial level throughout much of its range. Illegal commercial collecting and incidental collection by hobbyists are depleting populations in many areas. Our review of available data shows that substantial numbers of spotted turtles were exported from the United States from 1995 through 1998. We consulted all States within the range of the spotted turtle, as well as the Government of Canada. All responding States, the Canadian Government, and Ontario provincial authorities supported listing the species in Appendix II. We also received comments from five organizations during the public comment period. The Animal Welfare Institute, Humane Society of the United States, International Association of Fish and Wildlife Agencies, and Pet Industry Joint Advisory Council supported the listing, while Global Guardian Trust opposed it on the grounds that listing is unnecessary. The United States believes that the spotted turtle meets the criteria for inclusion in Appendix II and has, therefore, submitted an Appendix-II proposal for the species.

5. Crotalus horridus (Timber rattlesnake): Include in Appendix II

The timber rattlesnake occurs in 31 States in the northeastern, southeastern, and midwestern United States. The United States proposed an Appendix II listing at COP10, but that proposal was withdrawn. Three geographical “forms” of the timber rattlesnake are commonly recognized. The southern population of the timber rattlesnake, known as the “canebrake rattlesnake,” has been recognized as a subspecies Crotalus horridus atricaudatus by some herpetologists. However, there is no consensus among herpetologists that the southern population is a separate subspecies, and we have treated all three geographical forms as a single species—Crotalus horridus. Research, long-term monitoring, and anecdotal observations indicate that timber rattlesnake populations are declining throughout much of the species' range, especially in the Northeast and Midwest. In many States only relict populations remain, and large local populations are considered to be rare. Timber rattlesnakes are threatened throughout the species' range by ongoing habitat degradation and loss, highway mortality, rattlesnake roundups, collection for domestic and international trade, and intentional killing. The numerous threats to the timber rattlesnake are exacerbated by the species' low reproductive potential.

We consulted all States within the range of the timber rattlesnake regarding this proposal. The States, through the International Association of Fish and Wildlife Agencies, expressed support for listing the species in Appendix II. We received comments from six organizations during the public comment period. The Animal Welfare Institute, Humane Society of the United States, and International Association of Fish and Wildlife Agencies supported the listing, while Conservation Force opposed it on the grounds that nagement is largely a domestic matter of the United States. The American Zoological Association expressed concern over the subspecific taxonomic issues mentioned above, while Global Guardian Trust stated that the impacts of international trade on the species are unknown. The United States believes that the timber rattlesnake qualifies for inclusion in Appendix II and has, therefore, proposed to list the species in Appendix II.

6. Bufo retiformis (Sonoran green toad): Remove From Appendix II

The Sonoran green toad, limited to portions of Arizona and Sonora, Mexico, has been included in Appendix II since 1975. Although this species has a limited geographic distribution, its population status within that distribution, much of which is within protected areas, is considered to be stable. There is little or no documented international trade in this species, and no other significant threats to the species have been identified. The State of Arizona (Game and Fish Department) supports the removal. The Government of Mexico was consulted, but did not respond. Four comments received from the public were in favor of delisting, while one, from the Humane Society of the United States, was opposed on the grounds that, even though no apparent trade in this species exists, it could be misidentified for other Bufo species that are in trade. However, we believe that the species can be readily distinguished from other Bufo species and that little problem with misidentification would occur. Given the lack of trade and the fact that the species is readily identifiable, the United States proposed to delete this species from Appendix II.

7. Rhincodon typus (Whale shark): Include in Appendix II

The whale shark occurs in tropical and warm-temperate waters of the Atlantic, Pacific, and Indian Oceans. It is pelagic and can be encountered in deep water far from land. However, shallow areas near the mouths of some rivers and estuaries constitute feeding or breeding/birthing grounds where whale sharks gather seasonally. The species is rare, although quantitative population estimates are not available. Local seasonal populations have declined drastically in some areas, and fishing effort and price have increased greatly. In the Philippines, significant declines in catch-per-unit-of-effort have led to attempts to exploit new fishing areas. Similar declines, possibly caused by over-exploitation, have been noted in Taiwan and the Maldives. It is not known whether fishing in one area affects populations in other areas, although at least some of the sharks migrate long distances within ocean basins, suggesting that localized fishing pressure may have regional or global effects. International trade in whale shark products takes place in Southeast Asia. The whale shark is fished for its fins and meat throughout Asia (India, Pakistan, China, Indonesia, the Philippines, Taiwan, Japan, the Maldives, and elsewhere), in some cases despite legal protection (e.g., in the Philippines). In recent years, a market for fresh whale shark meat has developed in Taiwan, supplied by the Philippines.

In our Federal Register notice of July 8, 1999, we indicated that the United States was considering submitting a proposal to list the whale shark in Appendix II. We received comments from several organizations during the comment period. The Fisheries Agency of Japan, Fisheries Council of Canada, Japan Fisheries Association, National Fisheries Institute, and the Global Guardian Trust opposed the listing in Appendix II, stating that not enough data existed to confirm that trade has negatively impacted whale shark populations and implementation of the newly adopted United Nations Food and Agriculture Organization (FAO) International Plan of Action for Sharks will, in time, sufficiently protect the species. The Shark Research Institute, Center for Marine Conservation, Animal Welfare Institute, and Humane Society of the United States supported an Appendix II listing, stating that the species' life history and behavior make it vulnerable to over-exploitation, that evidence exists of growing harvest pressure to supply international markets, and that extinction is likely without CITES protection. World Wildlife Fund (WWF) noted that the Philippines might submit a proposal to list the whale shark in CITES Appendix III and urged us to consult closely with them and other countries before pursuing a listing proposal. [WWF did not say that they supported the proposal and we have not received official support from the Philippines.]

The United States has endeavored to consult with the whale shark range states through the Convention on the Conservation of Migratory Species of Wild Animals (CMS), and other bilateral and multilateral contacts. Responses thus far have been favorable. At the recent meeting of the Conference of the Parties to CMS, in South Africa, representatives from the following countries gave their preliminary support to the proposal, pending official approval from their governments: Guinea, Senegal, Pakistan, Sri Lanka, Iran, Australia, Philippines, and the Netherlands. We will submit more detailed discussion of the results of these consultations. Based on the available biological and trade information and the favorable responses from range states thus far, the United States submitted a proposal to list whale sharks in Appendix II.

8. Carcharodon carcharias (Great white shark): Include in Appendix I (Co-Sponsored the Proposal Submitted by Australia)

The great white shark is a coastal and offshore inhabitant of continental and insular shelves. It is distributed throughout temperate and subtropical oceans of the northern and southern hemispheres, and seasonally strays into tropical waters and colder temperate waters. Great white sharks are exploited worldwide by incidental fisheries, as a by-catch of longline fishing and gillnet fishing. In the past, occasional captures have been routinely marketed for the curio trade, with jaws and individual teeth across the entire size and maturity range commanding high prices in international markets. There is a smaller market for flesh and fins, with fins commanding as much as US$25.50/kg. Information from worldwide commercial catches, recreational catches, and captures in beach-meshing operations suggests that numbers are declining. Based on this and other information, the Government of Australia prepared a draft proposal to list the great white shark in Appendix I.

In response to our July 8, 1999, Federal Register notice, in which we indicated that the United States was considering submitting a proposal to list the species in Appendix I, we received comments from the Fisheries Agency of Japan, Fisheries Council of Canada, Japan Fisheries Association, Global Guardian Trust, National Fisheries Institute, Shark Research Institute, International Fund for Animal Welfare, Animal Welfare Institute, Humane Society International, Humane Society of the United States, and the Center for Marine Conservation. The first five organizations opposed the proposed listing, stating that insufficient data exists on stock status and trade, and that the implementation of the newly adopted FAO International Plan of Action for the Conservation and Management of Sharks will, in time, offer sufficient protection for global populations. The other commenters supported the proposed listing.

While developing its draft proposal to list great white sharks in Appendix I, the Government of Australia consulted with 45 range countries and received responses from 19. The United States, Republic of Seychelles, Croatia, France, Chile, Cameroon, and South Africa indicated full support for including the species in Appendix I. The Philippines and United Kingdom indicated support for the proposal in principle, while preferring that the great white shark be listed in Appendix II until further information is obtained. Canada stated that the biological criteria for listing in Appendix I were met but that trade criteria were not. Japan, Argentina, Spain, and Mexico indicated that, because in their view information is lacking to support claims that the proposal meets criteria for Appendix-I listing, they do not support the proposal. China commented that, since the FAO International Plan of Action for the Conservation and Management of Sharks exists, there is no need to list the great white shark on the Appendices of CITES. New Zealand, Peru, and Uruguay provided general information without indicating support or opposition, and Liberia provided positive comments about the proposal.

After considering the available information, Australia's documentation, and the submitted comments, the United States believes this species meets the criteria for inclusion in Appendix I and has indicated its intention to the Secretariat to co-sponsor the Appendix-I proposal that Australia submitted for the great white shark.

The United States also submitted the following proposals for species that are not native to the United States. All of these were submitted in co-sponsorship with other countries:

1. Manis crassicaudata, M. javanica, and M. pentadactyla (Asian pangolins): Transfer From Appendix II to I (Co-Sponsored With India, Nepal, and Sri Lanka)

These three pangolin species occur in south and southeast Asia, with some degree of overlap among their respective geographic ranges. All three species have been listed in Appendix II since 1975. Based on our review of extensive biological and trade information compiled by the CITES Animals Committee, we believe that all three species qualify for transfer to Appendix I based on the CITES listing criteria in Resolution Conf. 9.24. Pangolins are heavily exploited for food, for skins (used in the manufacture of leather goods such as boots), and medicinal uses (their scales are utilized in traditional Asian medicines). Considerable international trade occurs.

Range country Governments of Bangladesh, Brunei Darussalem, Burma/Myanmar, Cambodia, China, Indonesia, Malaysia, Pakistan, the Philippines, Singapore, Thailand, and Vietnam were consulted in regard to the desirability of transferring Asian pangolins from Appendix II to I. Bangladesh, Brunei Darussalem, and the Philippines support the proposed transfer. Indonesia stated “If uplisting into Appendix I would help the conservation of this species, we are not in the position to reject the proposal.” China believes that further assessment is needed on whether or not to transfer Asian pangolins from Appendix II to I; they believe that more information is needed about the species before any transfer is made. Malaysia and Singapore expressed no opinion on the proposed transfer. Other countries did not respond. We received five comments from the public during the public comment period. Global Guardian Trust opposed the proposal, while the Animal Welfare Institute and Humane Society of the United States supported the proposal. World Wildlife Fund stated that inclusion of all pangolins in Appendix I would present an enforcement challenge because of the large number of patented medicines in trade. They suggested that the United States might first consider submitting a resolution to facilitate dialogue on regulating the trade.

Despite the implementation issues that might accompany an Appendix-I listing, the United States feels that the three Asian pangolin species meet the criteria for listing in Appendix I. Numerous range countries share this belief, as evidenced by the fact that India, Nepal, and Sri Lanka co-sponsored the proposal, and by the strong support offered by several other range states. Thus, the United States submitted a proposal to transfer the Asian pangolins from Appendix II to Appendix I.

2. Tursiops truncatus (Bottlenose dolphin): Transfer Black/Azov Sea Population From Appendix II to I (Co-Sponsored With Georgia)

The subspecies Tursiops truncatus ponticus is endemic to the Black Sea and isolated from other populations of bottlenose dolphins in the Mediterranean and other waters. It is believed that overall abundance of dolphins in the Black Sea has declined greatly due to severe over-exploitation up into the 1980s, for human consumption and for industrial products. The size of the present population of bottlenose dolphins is unknown, and no estimates exist of sustainable levels of take. The habitat is thought to be highly degraded and declining in quality due to contamination by sewage and industrial effluents, algal blooms, decrease in prey species due to overfishing, and by-catch in other fisheries. A substantial international commercial trade in bottlenose dolphins from the Black Sea has developed.

In response to our Federal Register notice of July 8, 1999, we received comments on this proposal from the following: Fisheries Agency of Japan, World Wildlife Fund, Center for Marine Conservation, World Wildlife Fund, Animal Welfare Institute, Humane Society of the United States, and Global Guardian Trust. The Fisheries Agency of Japan believed that continuing trade under Appendix II suggests that source countries are confident that populations are healthy, and did not support the Appendix-I listing. Global Guardian Trust stated that it is difficult to claim the population meets the criteria for Appendix I. The other commenters supported a transfer of the species to Appendix I.

During our initial range country consultations, we learned that one country—Georgia—wished to be a co-sponsor of the proposal. Subsequently, we worked together with Georgia to prepare the proposal and consult other range countries for the Black Sea bottlenose dolphin. Turkey, Bulgaria, and Romania supported transfer of the species from Appendix II to Appendix I, while Russia and Ukraine did not offer an opinion. On the basis of the available biological information, which indicates that this population warrants transfer to Appendix I, the United States submitted a proposal to uplist the bottlenose dolphin population of the Black Sea to Appendix I, in co-sponsorship with Georgia.

3. Moschus spp. (Musk deer): Transfer From Appendix II to I (Co-Sponsored With India and Nepal)

Musk deer are native to Asia, ranging from eastern Siberia south through Manchuria and central China to the Hindu Kush-Karakoram-Himalayan region of Afghanistan, Pakistan, and India. The number of Moschus species is not resolved, with authorities describing anywhere from four to seven species. This, in turn, affects subspecies classification. The subspecies Moschus moschiferus moschiferus was first listed in CITES Appendix I in 1975. In 1979, the listing was changed so that Moschus moschiferus (Himalayan population) was listed in Appendix I and all remaining populations of Moschus spp. were in Appendix II. In 1983, the listing was once again changed such that all musk deer populations of Afghanistan, Bhutan, India, Burma/Myanmar, Nepal, and Pakistan were in Appendix I and all other musk deer populations were in Appendix II. The limitations of clear taxonomic description, including the inability to distinguish among musk pods from various species, adds to the argument for including all members of the genus in Appendix I. Available information indicates that musk deer populations continue to decline throughout the range of the genus due to widespread poaching. Modification and loss of forest and scrub-forest habitat are additional threats in many portions of the range.

We formally consulted all musk deer range countries. Our letter to Afghanistan was returned as undeliverable, and no response was received from Korea, Vietnam, Pakistan, Burma/Myanmar, and the Russian Federation. China opposed the proposed uplisting to Appendix I, providing several reasons. They maintained that the threat to wild musk deer was being reduced by the increased production of synthetic musk and improvement in management on musk deer farms, including a captive breeding technique that they state is “almost ripe” and a technique for getting musk from live deer that has gradually improved. China believes that domestic measures are adequate to protect musk deer. The letter from China pointed out that musk deer are still abundant in their country as well as Russia, and that they consider “2 millions square kilometers in the country as suitable habitat for these species.” Mongolia supported the proposed uplisting to Appendix I. Although no census of musk deer in Mongolia has been taken since 1985, they reported increased poaching and reduction of musk deer populations. We received six comments from the public during the Federal Register comment period. Conservation Force and Global Guardian Trust opposed the proposal, while the Animal Welfare Institute and Humane Society of the United States supported the proposal. World Wildlife Fund stated that inclusion of all musk deer in Appendix I would present a tremendous enforcement challenge because of the large number of patented medicines, containing musk, which are in trade. They suggested that the United States might first consider submitting a resolution to facilitate dialogue on regulating the trade.

After evaluating all comments received and all available information, we believe that these taxa meet the criteria for inclusion in Appendix I. The willingness of India and Nepal to co-sponsor the proposal, and Mongolia's strong support of an Appendix-I listing indicate that many range countries share this belief. Thus, the United States submitted a proposal to transfer all Moschus populations currently in Appendix II to Appendix I, in co-sponsorship with India and Nepal.

4. Poecilotheria spp. (Eastern Hemisphere tarantulas): Include in Appendix II (Co-Sponsored With Sri Lanka)

The 11 species of eastern hemisphere tarantula (Poecilotheria spp.) occur only in Sri Lanka and the east coast of India. With the listing of western hemisphere tarantulas (Brachypelma spp.) in Appendix II in 1994, much of the commercial pet trade shifted to eastern hemisphere tarantulas. The natural reproductive potential of these species is relatively low and cannot keep up with current demand for the pet trade. In addition, captive propagation of these species is rarely successful and is unlikely to provide enough individuals to meet demand. Finally, the native forest habitat of these species is declining due to deforestation. In addition to working with Sri Lanka on this proposal, we consulted with the Government of India. Although they are not co-sponsoring this proposal, they have stated that they support it. We also received three supporting comments from the public (Animal Welfare Institute, Global Guardian Trust, Humane Society of the United States). For these reasons, the United States submitted, in co-sponsorship with Sri Lanka, a proposal to list all eastern hemisphere tarantulas in Appendix II.

5. Malacochersus tornieri (Pancake tortoise): Transfer From Appendix II to I (Co-Sponsored the Proposal With Kenya)

The pancake tortoise ranges from central Kenya southward through central Tanzania. Within that range, the species tends to be patchily distributed because of its rigid habitat requirements. The species is found only where suitable rock crevices and outcroppings are found in thorn-scrub and savannah vegetation. The pancake tortoise was listed in Appendix II in 1975. Kenya banned trade in the species in 1981. Immediately following the ban in Kenya, exports from Tanzania increased. Field surveys conducted in the early 1990s indicated that pancake tortoise populations had become depleted in much of the species' range in Tanzania, especially in readily accessible areas. Additional collection pressure, combined with a low reproduction rate and specialized habitat requirements, could cause the species to become severely threatened throughout its range in Tanzania in the near future. For these reasons, the United States has co-sponsored the proposal submitted by Kenya to transfer the pancake tortoise from Appendix II to Appendix I. We understand that Kenya has consulted with Tanzania (the only other range country for this species) regarding this proposal.

6. Cuora spp. (Southeast Asian box turtles): Include in Appendix II (Co-Sponsored the Proposal Submitted by Germany)

The nine species of Asian box turtle (Cuora spp.) occur throughout much of Southeast Asia. None of the species is currently listed under CITES. The Southeast Asian box turtle (C. amboinensis) has been exploited heavily for food throughout much of its range. The Chinese three-striped box turtle (C. trifasciata) is in heavy demand for medicinal use and as a food item. Other species are in demand in food markets, for medicinal uses, in the pet trade, or for various combinations of these purposes. Some species are known primarily from food markets in China. Wild populations of many Cuora species have declined drastically over the last 10 years.

We consulted all CITES range countries (Bangladesh, Brunei, Cambodia, China, India, Indonesia, Malaysia, Philippines, Singapore, Thailand, and Vietnam) with regard to possible CITES listing for the two species listed above or for the genus Cuora as a whole. Bangladesh and Malaysia supported listing C. amboinensis in Appendix II; Indonesia stated that it would likely support the species' listing; Brunei Darussalem and India supported listing the entire genus; China supported both C. amboinensis and C. trifasciata for Appendix-II listing; and Singapore stated that C. trifasciata may qualify for Appendix II. Comments received from the Animal Welfare Institute, Humane Society of the United States, Pet Industry Joint Advisory Council, and World Wildlife Fund were supportive of Appendix-II status for the two aforementioned species or for the genus as a whole. Global Guardian Trust felt that a decision on listing should depend on the outcome of discussions between the United States and range countries. The United States feels that all species in the genus Cuora qualify for listing in Appendix II and co-sponsored the proposal submitted by Germany to list the entire genus Cuora in Appendix II.

7. Mantella spp. (Mantella frogs): Include in Appendix II (Co-Sponsored the Proposal With the Netherlands)

Mantella frogs occur only on the island of Madagascar. Four species, Mantella bernhardi, M. cowani, M. haraldmeieri, and M. viridis, were proposed for listing in Appendix II at COP10. That proposal was withdrawn when Madagascar agreed to list the four species in Appendix III. However, to date that listing has not taken place. In our Federal Register notice of July 8, 1999, we indicated that the United States was considering submitting a proposal to list these four species in Appendix II. Most of the approximately 15 known species of Mantella have limited distributions due to the limited availability of their preferred, primary forest habitats, and available habitat continues to decline due to deforestation. Many of these species are known to be in international trade, and population declines have been documented at several locations following heavy collection for international trade. Difficulty in distinguishing among various Mantella species, leading to “similarity of appearance” problems, further justifies listing the entire genus in Appendix II. After dialogue with the Governments of Madagascar and the Netherlands, the United States agreed to co-sponsor a proposal to include all species in the genus Mantella in Appendix II. We had received information that Madagascar would co-sponsor the proposal, but that information was not received by the Secretariat by the submission deadline. However, we remain convinced of Madagascar's support for the inclusion of all species in the genus in Appendix II. We received comments from five organizations in response to our July 8 notice. World Wildlife Fund supported listing the entire genus in Appendix II, while the Animal Welfare Institute and the Humane Society of the United States expressed support for listing the four species mentioned in the notice. Global Guardian Trust stated that a decision on listing should depend on the outcome of discussions between the United States and Madagascar.

What Species Proposals Did the United States Decide Not To Submit for Consideration at COP11?

In our Federal Register notice of July 8, 1999, we described several potential species proposals that the United States was considering submitting, was considering pending additional information, or was undecided on. Based on comments that we received, workload considerations, and other developments and factors, the United States did not submit the following proposals to amend the Appendices for consideration at COP11.

1. Hippocampus spp. (Seahorses)

In our Federal Register notice of July 8, 1999, we indicated that the United States was considering submitting a proposal to list all seahorses (Hippocampus spp.) in Appendix II. After reviewing all of the comments received on this issue, and all available information, we believe that the available data regarding international trade, taxonomic identification, species distribution, and biological and ecological status of the seahorses are not adequate to support submission of an Appendix-II proposal at this time. However, the United States remains very concerned about the conservation status of seahorses and other members of the family Syngnathidae, and has decided to submit a discussion paper on this issue for consideration at COP11. If sufficient progress is not made in the conservation of these species, the United States may consider submission of a proposal for consideration at COP12. Please refer to paragraph 3 above, “Trade in Seahorses and Other Members of the Family Syngnathidae” in the section “What Discussion Papers Did the United States Submit for Consideration at COP11?,” for information about the discussion paper submitted by the United States.

2. Eumetopias jubatus (Steller's sea lion)

The global population of Steller's sea lion was estimated at over 300,000 individuals in the late 1970s. Declines in abundance began in the eastern Aleutian Islands in the early 1970s, and by 1985 the populations had declined throughout the Aleutian Islands and eastward into the Gulf of Alaska, at least to the Kenai Peninsula. The species was listed as threatened under the U.S. Endangered Species Act in November 1990. Since then, two stocks, an eastern (stable population trends) and western (declining trends) population have been identified. In 1997, the status of the western stock of Steller's sea lions was changed to endangered. It is presumed that international trade occurs in this species, particularly within the western North Pacific Ocean part of the species' range, based on the availability of Steller's sea lion meat at shops at international airports in Japan.

As a result of our consultation with range country governments, we received comments from Japan and Canada, both of which opposed a listing in Appendix I. Russia was contacted, but did not comment on the proposed action. In response to our Federal Register notice of July 8, 1999, we received comments on this issue from the Japan Fisheries Agency, International Association of Fish and Wildlife Agencies, Global Guardian Trust, Center for Marine Conservation, American Zoo and Aquarium Association, Humane Society of the United States, Animal Welfare Institute, and Greenpeace. The first three organizations opposed an Appendix I listing, stating that international trade is not significantly affecting Steller's sea lion populations.

The United States decided not to submit a proposal to include the species in Appendix I at this time, based on a number of factors, including range country views. We will continue to be gravely concerned about the conservation of this highly depleted species and will continue to work for the conservation and recovery of Steller's sea lion populations, through the Marine Mammal Protection Act and the Endangered Species Act. We will monitor the status of the species throughout its range, put this important item on the agendas of the appropriate fora, such as the U.S./Japan Consultative Committee on Fisheries and the North Pacific Marine Science Research Organization (PICES), and pursue the topic through appropriate diplomatic channels.

3. Chamaeleo parsonii parsonii (Parson's chameleon)

Parson's chameleon is endemic to the rainforests of eastern Madagascar. The species was listed in Appendix II in 1977. The primary threats to this species are the continued loss of its rainforest habitat and unsustainable exports for the live reptile trade. Parson's chameleons require dense forest cover, most of which has already been lost through deforestation. Parson's chameleons have been exported for the pet trade and as zoological specimens since at least 1988. Legal commercial exports were suspended in 1995, and relatively few captive offspring are produced. These two factors have served to drive up both the demand from hobbyists and the selling price of chameleons imported prior to the ban or born in captivity. In the event that trade resumes, Parson's chameleon would be placed under heavy pressure from collectors supplying exporters. In response to our Federal Register notice of July 8, 1999, we received responses from six organizations and two individuals. The two individuals, Pet Industry Joint Advisory Council, and Global Guardian Trust opposed the listing, while the Animal Welfare Institute, Humane Society of the United States, and Chameleon Information Network supported it. World Wildlife Fund discouraged the use of split listings. We formally consulted Madagascar in regard to the proposal, but received no response. Because of the lack of range country response, the export moratorium currently in place, and workload factors, the United States decided not to submit a proposal to transfer Parson's chameleon to Appendix I at COP11. However, we will continue to monitor the trade and biological status of this taxon. In the event that the export moratorium is lifted in the near future, or other information becomes available, the United States may consider proposing this species for Appendix I at COP12.

4. Swietenia macrophylla (Bigleaf mahogany)

The United States is the largest importer of wood of this species, which occurs in range states from Mexico to Brazil and Bolivia. Brazil and Bolivia are the two largest exporters; the other 11 range states export far less. In November 1995, Costa Rica listed Bigleaf mahogany (from the Americas) in Appendix III, including its saw-logs, sawn wood, and veneer sheets (other derivatives such as furniture are exempt from CITES requirements). Bolivia included bigleaf mahogany in Appendix III in March 1998, and Brazil and Mexico took the same action in July 1998 and April 1999, respectively. Species listed in Appendix III can be traded commercially, provided the appropriate findings are made and CITES documents are issued. Once a species is added to Appendix III, the countries that list the species are required to issue permits and ensure that specimens are legally acquired; non-listing range countries must issue certificates of origin; and importing countries are required to ensure that all shipments are accompanied by the appropriate CITES documents.

Proposals to include this species in Appendix II were submitted to COP8 by Costa Rica and the United States, to COP9 by the Netherlands, and to COP10 by Bolivia and the United States. At COP8, the proposal was withdrawn; at COP9 it gained 60 percent of the vote, short of the two-thirds majority needed for adoption. The COP10 proposal also received the majority of the votes, but did not obtain the required two-thirds majority. At COP10, Brazil offered to host a Mahogany Working Group meeting that would examine the conservation status of the species, including related forest policies and management, and international cooperation and trade, and make recommendations accordingly.

The Working Group met in Brasilia in June 1998. Attendees included seven range states, including the six largest (Brazil, Bolivia, Peru, Ecuador, Colombia, and Venezuela), the major importing countries, including the United States, the Food and Agriculture Organization of the United Nations, the International Tropical Timber Organization, non-governmental organizations, experts, and others. The group affirmed the utility of Appendix-III listings and the need for forest inventories. The group agreed to joint actions, which include evaluating the status of commercial timber species, technical and scientific cooperation for the species' sustained management and reproduction, and commercial and industrial cooperation, as well as supervision, control, and inspection of the products.

In our Federal Register notice of July 8, 1999, we indicated that the United States was considering proposing Swietenia macrophylla for listing in Appendix II of CITES, and that we were seeking additional information in the status and trade of the species. The overwhelming majority of responses received in reply to the notice and at the public meeting held on July 28, 1999, were opposed to a U.S. proposal to list bigleaf mahogany in Appendix II. We received comments from the following companies and organizations: Afrasian Woods/Gross Veneer Sales; African Timber Organization; Aljoma Lumber, Inc.; American Furniture Manufacturers Association; Association Technique Internationale des Bois Tropicaux; Center for International Environmental Law; The Dean Company; Dean Hardwoods, Inc.; Eidai Industries, Inc.; Frost Hardwood Lumber Co.; Fund for Animals, Inc.; Ghana Timber Millers Organization; Global Guardian Trust; Greenpeace Mexico; Grzep, C.G.; Hardwood Plywood & Veneer Association; International Society of Tropical Foresters; International Specialities, Inc.; International Wood Products Association; Malaysian Timber Council; Marwood, Inc.; National Hardwood Lumber Association; Newman Lumber Co.; Plywood Tropics USA, Inc.; Select Interior Door, Ltd.; States Industries, Inc.; Steinway & Sons; T. Baird McIlvain International Co.; Thompson Mahogany Company; Wood Moulding & Millwork Producers Association; and World Timber Corporation. In addition, we received comments from the following members of Congress: Congressman Owen Pickett, Congressman Nick Rahall, Senator John Breaux, and Senator Robert Byrd. Only the Center for International Environmental Law and Greenpeace Mexico expressed support for an Appendix II proposal.

We also consulted all of the range nations for this species, in writing. We received seven responses: Ecuador, Honduras, and Mexico expressed support; Costa Rica and Nicaragua provided information, but stated no position; and Bolivia and Brazil expressed opposition to a U.S. proposal to list this species in Appendix II. As noted above, Brazil proposed including bigleaf mahogany as an agenda item for discussion and submitted a document for discussion at COP11, reporting on the results of the Mahogany Working Group meeting that Brazil hosted in June 1998. The United States is very supportive of providing the Parties an opportunity to discuss progress in the conservation of Swietenia macrophylla since COP10. In relation to this discussion, we will work closely with other Federal agencies, and intend to submit an informational document outlining U.S. views on the issue and actions under way to conserve the species. For a number of reasons, the United States decided not to submit an Appendix-II proposal for bigleaf mahogany at this time.

5. Dissostichus eleginoides (Patagonian toothfish)

Dissostichus eleginoides occurs along slope waters in the Pacific off Chile from 30 °S to Cape Horn, in the southern Atlantic along the coast and slope waters of southern Patagonia and Argentina, to south of South Africa and south of New Zealand, including the sub-Antarctic waters of the Indian Ocean and Macquarie Island on the Indo-Pacific boundary of the Southern Ocean. The fishery for Patagonian toothfish is relatively new, and no long-term fishery data exist by which to establish trends. However, rapid increases in catch have occurred over the last few years. In addition, several characteristics of the life history of D. eleginoides make it vulnerable to over-exploitation, such as low fecundity, slow growth, long life, and late maturation. Illegal trade and overharvest in and outside of the jurisdictional waters of the Convention for the Conservation of Antarctic Marine Living Resources (CCAMLR) is of prime concern to the United States and other Parties to CCAMLR.

In response to our Federal Register notice of July 8, 1999, we received comments on this issue from Fisheries Agency of Japan, Japan Fisheries Association, National Fisheries Institute, Global Guardian Trust, Center for Marine Conservation, Greenpeace, Humane Society International, and Humane Society of the United States. The first four commenters opposed an Appendix-II listing, stating that toothfish management should be left to regional bodies like CCAMLR. The other organizations supported the proposal.

The United States and other Parties have made proposals to CCAMLR for a toothfish catch certification program since October 1998, and a final program was adopted by CCAMLR parties in November 1999. The scheme will document information regarding the catch of most toothfish including the amount of fish caught by weight; the National Agency that authorized the catch; the number of the license or permit issued to the vessel, as appropriate; information concerning the vessel on which the fish was caught; and the location of where the fish was caught. The scheme obligates Contracting Parties to CCAMLR to require their vessels to use the scheme for all fishing for toothfish. Second, it requires that any Contracting Party landing fish from a Party or non-Party to CCAMLR in its territory or on a flag vessel ensure that the fish it is landing is accompanied by the documentation called for in the scheme. Finally, it requires CCAMLR Parties that import toothfish to ensure that all imported fish are accompanied by the documentation called for in the scheme. The United States believes that implementation of the adopted certification scheme will help ensure the sustainability of the Patagonian toothfish fishery while protecting spawning populations and reducing illegal catch. Therefore, the United States decided not to submit a proposal for Patagonian toothfish.

6. Rhacodactylus spp. (New Caledonia geckos)

Rhacodactylus geckos are endemic to New Caledonia and nearby islands. None of the species is currently listed under CITES. In our Federal Register notice of July 8, 1999, we indicated that the United States was considering submitting a proposal to list four species of New Caledonian geckos (Rhacodactylus chahoua, R. ciliatus, R. leachianus, and R. sarasinorum) in Appendix II. These species are threatened by habitat destruction due to agricultural and related burning, deforestation, and mining; introduction of exotic species; and collection for the international commercial pet trade. Collection pressure appears to be most intense on some of the more remote, uninhabited islands where it is difficult to control collection. We received six comments regarding the possible listing of New Caledonian geckos in Appendix II. Jean Chazeau (Laboratoire de Zoologie Appliqué, New Caledonia), the Humane Society of the United States, and the Global Guardian Trust supported such listing, whereas one individual and the Pet Industry Joint Advisory Council opposed the listing. World Wildlife Fund neither supported nor opposed the listing, but commented that New Caledonia currently prohibits the export of these geckos and that further information was needed to determine if the species meet the listing criteria. We also formally consulted the Governments of New Caledonia and France but received no comments. Based on the lack of range country response and workload considerations, the United States decided not to submit a proposal to include these species in Appendix II. We will discuss the issue with the Governments of New Caledonia and France at COP11 and monitor the trade in these species between COP11 and COP12. If warranted, the United States will consider submission of a proposal at COP12.

7. Cacatua sulphurea (Lesser sulphur-crested cockatoo)

In our Federal Register notice of July 8, 1999, we recalled that the Conference of the Parties agreed at COP10 to retain the lesser sulphur-crested cockatoo in Appendix II, but reconsider listing the species in Appendix I if Indonesia had not progressed in implementing a recovery plan for the species. We requested additional information from the public on implementation of the recovery plan, and we indicated that we were consulting with the Government of Indonesia on this matter. The Government of Indonesia has informed us that they are now in the process of implementing their recovery plan, and the species should remain in Appendix II. We note that several surveys of this species have been conducted in different parts of its range, to assess its status in the wild, and Indonesia has banned the export of this species since 1995. We have encountered no information to indicate that this export ban is not being adequately enforced, and we received no comments containing information to suggest that progress has not been made with the recovery plan. Although one commenter suggested that we submit a proposal to list the species in Appendix I as a precautionary measure, the United States has decided not to submit such a proposal at this time. However, we will continue to monitor trade in this species and progress with implementation of the recovery plan in Indonesia. If necessary, the United States will reconsider this species for transfer to Appendix I at COP12.

8. Ovis vignei (Urial sheep)

Urial sheep are native to central Asia, ranging from Iran and Turkmenistan in the west to northern India (Ladakh) in the east. Within this range, urial tend to have a patchy distribution associated with mountain ranges and rugged hill and canyon country. The number of urial subspecies is not resolved, with authorities describing from five to seven. The nominate subspecies, O. vignei vignei, has been listed in CITES Appendix I since 1975; no other subspecies are currently listed. Urial populations appear to have declined across much of the species' entire range over the past 20-30 years as a result of poaching and habitat degradation. In our Federal Register notice of July 8, 1999, we indicated that the United States was considering submitting, supporting, or co-sponsoring a proposal to list the entire species Ovis vignei in Appendix I.

We consulted all urial range countries, as well as the Russian Federation (through Germany), and received responses from Kazakhstan, the Russian Federation, Tajikistan, and Turkmenistan. Tajikistan simply provided information about the status of urials in that country, while the three other countries opposed the Appendix-I listing for all unlisted subspecies. We received comments from seven organizations during the public comment period. The Animal Welfare Institute and Humane Society of the United States supported the inclusion of the entire species in Appendix I. The International Association of Fish and Wildlife Agencies stated that available information would appear to indicate that some subspecies should be in Appendix I while others should not. Safari Club International stated that the issue of urial conservation should be approached on a population-by-population basis. The IUCN Sustainable Use Specialist Group stated that an Appendix-I listing would create problems for planned urial conservation projects based on sustainable use in Pakistan. Conservation Force opposed a listing on the grounds that the species' status and limited trade do not warrant an Appendix-I listing and that such a listing would severely limit sustainable use programs necessary for the conservation of the species.

In light of range country concerns about an Appendix-I listing and recent population information suggesting that an Appendix-I listing for the entire species may not be warranted, the United States decided not to co-sponsor Germany's proposal to list the entire species in Appendix I. We will continue to gather information needed to determine what position the United States should take at COP11 relative to the listing of urial under CITES.

9. Thunnus maccoyii (Southern bluefin tuna)

Southern bluefin tuna are large, highly migratory, pelagic fish that inhabit portions of the Pacific, Atlantic, and Indian Oceans in the Southern Hemisphere. Some researchers have estimated that the total Southern bluefin tuna population declined by 50 percent between 1960 and 1966, and then by 30-57 percent between 1966 and 1991. By 1994, estimated adult population size had fallen 80-94 percent below 1966 levels. However, some recent assessments indicate that numbers of adults have increased between 1991 and 1994. Southern bluefin tuna are very valuable and are exploited for the Japanese high-grade sashimi market, and markets have developed recently in Taiwan and the Republic of Korea. The primary harvest is by Australia and New Zealand in their coastal waters and Japan in offshore waters. The fishery has been active since the 1950s, but the United States does not participate. Illegal fisheries have been documented in Australia's Exclusive Economic Zone (EEZ).

Southern bluefin tuna management was formalized between the three major harvesting nations under the Convention for the Conservation of Southern Bluefin Tuna (CCSBT) in May 1994. Commercial landings declined precipitously during the early 1980s and have remained low because of global total allowable catch (TAC) levels set by CCSBT. Through 1998, CCSBT set annual quotas well below historic harvest levels. However, quota effectiveness is undermined by rising catches of non-CCSBT fishing fleets and disputes on quotas by CCSBT members. Recent conflicts over these and other issues were addressed by the International Tribunal for the Law of the Sea, and CCSBT members are working to resolve differences in opinion over stock status and catch allocation.

In response to our Federal Register notice of July 8, 1999, we received comments on this issue from Japan Fisheries Association, Global Guardian Trust, Humane Society International, and Humane Society of the United States. The first two commenters opposed any listing of southern bluefin tuna under CITES, emphasizing the management authority of CCSBT. The other commenters supported an Appendix-II listing for the species.

Given the conflict resolution currently under way within CCSBT, and the comments received, the United States decided not to submit an Appendix-II proposal for southern bluefin tuna.

10. Other Species

In our Federal Register notice of July 8, 1999, we indicated that the United States did not intend to submit several potential species proposals for consideration at COP11. We did not receive any comments that provided information that led the United States to change its position on these species. Therefore, the United States submitted no proposals for those species and we have not addressed them any further in this notice.

Future Actions

Through one additional Federal Register notice, we will publish the provisional agenda for COP11 and inform you about proposed U.S. negotiating positions on proposals to amend the Appendices, draft resolutions, draft decisions, discussion papers, and other issues before the Parties for consideration at COP11. We will also publish an announcement of a public meeting that we expect to hold approximately one month prior to COP11, to receive public input on our positions regarding COP11 issues.

Prior to COP11, we will post on our Website any changes the United States makes to its proposed negotiating positions contained in the Federal Register notice referred to in the above paragraph.

After the meeting of the COP, we will publish a notice in the Federal Register announcing the amendments to CITES Appendices I and II that were adopted by the Parties at the meeting, and requesting comments on whether the United States should enter reservations on any of these amendments.

Author and Authority

The primary authors of this notice are Mark Albert, Office of Management Authority; and Susan Lieberman, Kurt Johnson, Julie Lyke, Javier Alvarez, Tim VanNorman, and John Field, Office of Scientific Authority; under the authority of the U.S. Endangered Species Act of 1973, as amended (16 U.S.C. 1531 et seq.).

Dated: February 9, 2000.
Jamie Rappaport Clark,
Director.

[FR Doc. 00-3719 Filed 2-16-00; 8:45 am]

BILLING CODE 4310-55-P